DEPARTMENT OF ENERGY

Federal Energy Regulatory Commission

[Docket Nos. ER03-1102-003, ER03-1102-004, EL05-14-000]

California Independent System Operator Corporation; Notice of Agenda of Staff Technical Conference

January 6, 2005.

As announced in the Notice of Technical Conference issued on December 3, 2004, the Commission Staff will convene a technical conference on Wednesday, January 12, 2005, at 9 a.m. (e.s.t.), at the Federal Energy Regulatory Commission, 888 First Street, NE., Washington, DC. Based on the response to Staff's request for alternative proposals to the CAISO's proposed self-certification process, continuing this conference through Thursday, January 13, 2005, will not be necessary. The purpose of the conference is to discuss with the California Independent System Operator Corporation (CAISO) and interested parties how best to achieve the CAISO's objective of ensuring that ancillary services bids are backed by a physical resource based on the presentation of proposals at the technical conference.

Please take notice of the conference agenda below:

I. Opening remarks by Commission staff.

II. Presentation by the CAISO on the proposed self-certification process.

III. Presentation by Powerex on its alternative proposal to institute a tagging procedure to verify ancillary services commitments.

IV. Comments from staff.

The technical conference will be held at the Federal Energy Regulatory Commission, 888 First Street, NE., Washington, DC, in Room 3M-2B. FERC conferences are accessible under section 508 of the Rehabilitation Act of 1973. For accessibility accommodations please send an e-mail to accessibility@ferc.gov or call toll free 1-866-208-3372 (voice) or 202-208-1659 (TTY), or send a FAX to 202-208-2106 with the required accommodations.

For more information about the conference, please contact: Marion Whitaker at (202) 502-8264 or at marion.whitaker@ferc.gov.

Magalie R. Salas,
Secretary.

[FR Doc. E5-94 Filed 1-11-05; 8:45 am]

BILLING CODE 6717-01-P